ENVIRONMENTAL PROTECTION AGENCY

40 CFR Parts 52 and 81

[AZ072-0085C; FRL-6852-6]

Approval and Promulgation of Maintenance Plan and Designation of Area for Air Quality Planning Purposes for Carbon Monoxide; State of Arizona

AGENCY: Environmental Protection Agency (EPA).

ACTION: Final rule; correction.

SUMMARY: This action corrects a final rule that was published in the Federal Register on June 8, 2000 approving the request of Arizona for the redesignation of the Tucson Air Planning Area to attainment for the carbon monoxide National Ambient Air Quality Standard and for approval of a maintenance plan.

EFFECTIVE DATE: This action is effective on August 21, 2000.

FOR FURTHER INFORMATION CONTACT: Eleanor Kaplan, Air Planning Office, Air Division, U.S. Environmental Protection Agency, Region IX, 75 Hawthorne Street, San Francisco, CA 94105, Telephone: (415) 744-1159.

SUPPLEMENTARY INFORMATION: On June 8, 2000 at 65 FR 36353, EPA published a final rulemaking action approving the request of Arizona for the redesignation of the Tucson Air Planning Area to attainment for the carbon monoxide National Ambient Air Quality Standard and for approval of a maintenance plan. The final rulemaking contained amendments to 40 CFR part 52 relating to revised Arizona statutes and to 40 CFR part 81 relating to attainment status designations. Two of those amendments were incomplete. This action will correct the listing under § 52.120(c)(96)(i)(A)(1) to add Sections 7 and 8 of House Bill 2254 which were omitted. This action will also correct the description of the boundaries for the “Tucson Area” contained in § 81.303 which was incomplete.

Section 553 of the Administrative Procedure Act, 5 U.S.C. 553(b)(B), provides that, when an agency for good cause finds that notice and public procedure are impracticable, unnecessary or contrary to the public interest, the agency may issue a rule without providing notice and an opportunity for public comment. EPA has determined that there is good cause for making today's rule final without prior proposal and opportunity for comment because EPA is amending the tables in 40 CFR 52.120 and 81.303 that were contained in the final approval of the Arizona request for redesignation to attainment of the carbon monoxide National Ambient Air Quality Standard for the Tucson Air Planning Area and approval of a maintenance plan that was published in the Federal Register on June 8, 2000. That redesignation was previously subject to notice and comment. Thus, notice and public procedure are unnecessary. EPA finds that this constitutes good cause under 5 U.S.C. 553(b)(B).

Summary of Final Action

In this action EPA is correcting amendments to 40 CFR part 52, subpart D and 40 CFR part 81, subpart C that were contained in the final Federal Register Notice published on June 8, 2000 redesignating the Tucson Air Planning Area to attainment for the carbon monoxide National Ambient Air Quality Standard. Specifically, this action amends § 52.120 relating to Arizona revised statutes and § 81.303 describing the boundaries for the Tucson Air Planning Area.

Administrative Requirements

Under Executive Order 12866 (58 FR 51735, October 4, 1993), this action is not a “significant regulatory action” and, is therefore not subject to review by the Office of Management and Budget. Because the agency has made a “good cause” finding that this action is not subject to notice-and-comment requirements under the Administrative Procedure Act or any other statute, it is not subject to the regulatory flexibility provisions of the Regulatory Flexibility Act (5 U.S.C. 601 et seq.), or to sections 202 and 205 of the Unfunded Mandates Reform Act of 1995 (UMRA)(Public Law 104-4). In addition, this action does not significantly or uniquely affect small governments or impose a significant intergovernmental mandate, as described in sections 203 and 204 of UMRA. This rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1988) by examining the takings implication of the rule in accordance with the “Attorney General's Supplemental Guidelines for the Evaluation of Risk and Avoidance of Unanticipated Takings'' issued under the executive order. This rule does not impose an information collection burden under the provisions of the Paperwork Reduction Act of 1995 (44 U.S.C. 3501 et seq.). EPA's compliance with these statutes and Executive Orders for the underlying rule is discussed in the June 8, 2000 Federal Register action.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefor, and established an effective date of August 21, 2000. EPA will submit a report containing this rule and other required information to the U.S. Senate, the U.S. House of Representatives, and the Comptroller General of the United States prior to publication of the rule in the Federal Register. This action is not a “major rule” as defined by 5 U.S.C. 804(2).

List of Subjects

40 CFR Part 52

Environmental protection, Air pollution control, Incorporation by reference, Intergovernmental relations, Particulate Matter, Reporting and recordkeeping requirements, Sulfur dioxide, Volatile organic compounds.

40 CFR Part 81

Environmental protection, Air pollution control.

Authority: 42 U.S.C. 7401 et seq.

John Wise,
Acting Regional Administrator, Region IX.

For the reasons set out in the preamble, title 40, chapter I of the Code of Federal Regulations is amended as follows:

PART 52—[AMENDED]

1. The authority citation for Part 52 continues to read as follows:

Authority: 42 U.S.C. 7401 et seq.

Subpart D—Arizona

2. Section 52.120 is amended by revising paragraph (c)(96)(i)(A)(1) to read as follows:

§ 52.120 Identification of plan.

* * * * *

(c) * * *

(i) * * *

(A) * * *

(96) * * *

(1) House Bill 2254, Section 1: ARS 41-3009.01 (amended); Section 2: 49-541.01 (amended); Section 3: 49-542 (amended); Section 4: 49-545 (amended); Section 5: 49-557 (amended); Section 6: 49-573 (amended); Section 7: 41-803 (amended) and Section 8: 41-401.01 (amended), adopted on May 18, 1999.

* * * * *

PART 81—[AMENDED]

1. The authority citation for part 81 continues to read as follows:

Authority: 42 U.S.C. 7401 et seq.

Subpart C—Arizona

2. In § 81.303 the table for “Arizona-Carbon Monoxide” is amended by revising the entry for “Tucson area: Pima County (part)” to read as follows:

§ 81.303 Arizona

* * * * *

Designated Area | Arizona—Carbon Monoxide Designation: Date | Arizona—Carbon Monoxide Designation: Type Attainment | Classification: Date | Classification: Type
* * * * * * *
Tucson Area: | September 20, 2000. |  |  |
Pima County (part): |  |  |  |
Township and Ranges as follows: T11-12S, R12-14E; T13-15S, R11-16E; and T16S, R12-16e Gila and Salt River Baseline and Meridian excluding portions of the Saguaro National Monument and the Coronado National Forest. |  |  |  |
* * * * * * *

[FR Doc. 00-21079 Filed 8-18-00; 8:45 am]

BILLING CODE 6560-50-U